FEDERAL EMERGENCY MANAGEMENT AGENCY

44 CFR Part 65

Changes in Flood Elevation Determinations

AGENCY: Federal Emergency Management Agency (FEMA).

ACTION: Final rule.

SUMMARY: Modified Base (1% annual chance) Flood Elevations (BFEs) are finalized for the communities listed below. These modified elevations will be used to calculate flood insurance premium rates for new buildings and their contents.

EFFECTIVE DATES: The effective dates for these modified BFEs are indicated on the following table and revise the Flood Insurance Rate Map(s) in effect for each listed community prior to this date.

ADDRESSES: The modified BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA makes the final determinations listed below of the modified BFEs for each community listed. These modified elevations have been published in newspapers of local circulation and ninety (90) days have elapsed since that publication. The Acting Administrator, Federal Insurance and Mitigation Administration has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State, or regional entities.

These modified elevations are used to meet the floodplain management requirements of the NFIP and are also used to calculate the appropriate flood insurance premium rates for new buildings built after these elevations are made final, and for the contents in these buildings.

The changes in BFEs are in accordance with 44 CFR 65.4.

National Environmental Policy Act

This rule is categorically excluded from the requirements of 44 CFR Part 10, Environmental Consideration. No environmental impact assessment has been prepared.

Regulatory Flexibility Act

The Acting Administrator, Federal Insurance and Mitigation Administration certifies that this rule is exempt from the requirements of the Regulatory Flexibility Act because modified BFEs are required by the Flood Disaster Protection Act of 1973, 42 U.S.C. 4105, and are required to maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376,

§ 65.4 [Amended]

2. The tables published under the authority of § 65.4 are amended as follows:

State and county | Location | Date and name of newspaper where notice was published | Chief executive officer of community | Effective date of modification | Community No.
Alaska: Unorganized Borough (FEMA Docket No.: B-7415) | Municipality of Anchorage | April 6, 2001, April 13, 2001, Daily News Anchorage | The Honorable George P. Wuerch, Mayor, Municipality of Anchorage, P.O. Box 196650, Anchorage, Alaska 99519-6650 | March 14, 2001 | 020005
Arkansas: Faulkner (FEMA Docket No.: B-7415) | City of Conway | April 5, 2001, April 13, 2001, Log Cabin Democrat | The Honorable Tab Townsell, Mayor, City of Conway, City Hall, 1201 Oak Street, Conway, Arkansas 72032 | March 13, 2001 | 050078
Arkansas: Faulkner (FEMA Docket No.: B-7415) | Unincorporated areas | April 5, 2001, April 13, 2001, Log Cabin Democrat | The Honorable John Wayne Carter, Faulkner County Judge, Faulkner County Court House, 801 Locust Avenue, Conway, Arkansas 72032 | March 13, 2001 | 050431
Arizona: Maricopa (FEMA Docket No.: B-7412) | City of Glendale | March 16, 2001, March 23, 2001, Arizona Republic | The Honorable Elaine Scruggs, Mayor, City of Glendale, 5850 West Glendale Avenue, Glendale, Arizona 85301 | June 21, 2001 | 040045
Arizona: Maricopa (FEMA Docket No.: B-7412) | City of Peoria | March 15, 2001, March 22, 2001, Arizona Republic | The Honorable John Keegan, Mayor, City of Peoria, 8401 West Monroe Street, Peoria, Arizona 85345 | June 21, 2001 | 040050
Arizona: Maricopa (FEMA Docket No.: B-7412) | City of Peoria | March 16, 2001, March 23, 2001, Arizona Republic | The Honorable John Keegan, Mayor, City of Peoria, 8401 West Monroe Street, Peoria, Arizona 85345 | June 21, 2001 | 040050
Arizona: Maricopa (FEMA Docket No.: B-7415) | City of Scottsdale | April 6, 2001 April 13, 2001, Arizona Republic | The Honorable Mary Manross, Mayor, City of Scottsdale, 3939 North Drinkwater Boulevard, Scottsdale, Arizona 85251 | March 13, 2001 | 045012
Arizona: Maricopa (FEMA Docket No.: B-7412) | Unincorporated areas | March 15, 2001, March 22, 2001, Arizona Republic | The Honorable Janice K. Brewer, Chairperson, Maricopa County Board of Supervisors, 301 West Jefferson, 10th Floor, Phoenix, Arizona 85003 | June 21, 2001 | 040037
Arizona: Maricopa (FEMA Docket No.: B-7415) | Unincorporated areas | April 6, 2001, April 13, 2001, Arizona Republic | The Honorable Janice K. Brewer, Chairperson, Maricopa County Board of Supervisors, 301 West Jefferson, 10th Floor, Phoenix, Arizona 85003 | July 5, 2001 | 040037
Arizona: Pima (FEMA Docket No.: B-7415) | City of Tucson | March 23, 2001, March 30, 2001, Tucson Citizen | The Honorable Robert Walkup, Mayor, City of Tucson, P.O. Box 27210, Tucson, Arizona 85726 | March 5, 2001 | 040076
California: Contra Costa (FEMA Docket No.: B-7412) | Unincorporated areas | February 7, 2001, February 14, 2001, Contra Costa Times | The Honorable Gayle B. Uilkema, Chairperson, Contra Costa County, Board of Supervisors, c/o Clerk of the Board, 651 Pine Street, Martinez, California 94553 | May 15, 2001 | 060025
California: Contra Costa (FEMA Docket No.: B-7412) | City of Walnut Creek | February 7, 2001, February 14, 2001, Contra Costa Times | The Honorable Kathy Hicks, Mayor, City of Walnut Creek, c/o City Manager, P.O. Box 8039, Walnut Creek, California 94596-8039 | May 15, 2001 | 065070
California: Los Angeles (FEMA Docket No.: B-7415) | City of Los Angeles | March 30, 2001, April 6, 2001, Metropolitan News | The Honorable Richard J. Riordan, Mayor, City of Angeles, 200 North Main Street, Room 800, Los Angeles, California 90012 | March 6, 2001 | 060137
California: Los Angeles (FEMA Docket No.: B-7415) | Unincorporated areas | March 30, 2001, April 6, 2001, Whittier Daily News | The Honorable Michael Antonovich, Chairperson, Los Angeles County Board of Supervisors, 500 West Temple Street, Suite 869, Los Angeles, California 90012 | March 9, 2001 | 065043
California: Sacramento (FEMA Docket No.: B-7412) | Unincorporated areas | February 23, 2001, March 2, 2001, Sacramento Bee | The Honorable Roger Neillo, Chairman, Sacramento County Board of Supervisors, 700 H Street, Room 2450, Sacramento, California 95814 | January 30, 2001 | 060262
California: San Diego (FEMA Docket No.: B-7415) | City of El Cajon | May 17, 2001, May 24, 2001, East County Californian | The Honorable Mark Lewis, Mayor, City of El Cajon, 200 East Main Street, El Cajon, California 92020 | April 27, 2001 | 060289
California: San Diego (FEMA Docket No.: B-7415) | Unincorporated areas | May 17, 2001, May 24, 2001 San Diego Union Tribune | The Honorable Bill Horn, Chairman, San Diego County Board of Supervisors, 1600 Pacific Highway, Room 335, San Diego, California 92101 | April 27, 2001 | 060284
California: Santa Clara (FEMA Docket No.: B-7415) | City of Santa Clara | April 11, 2001, April 18, 2001, Santa Clara Weekly | The Honorable Judy Nadler, Mayor, City of Santa Clara, City Hall, 1500 Warburton Avenue, Santa Clara, California 95050 | July 17, 2001 | 060350
California: Santa Clara (FEMA Docket No.: B-7415) | City of Milpitas | May 31, 2001, June 7, 2001, Milpitas Post | The Honorable Henry Manayan, Mayor, City of Milpitas, 455 East Calaveras Boulevard, Milpitas, California 95035 | May 15, 2001 | 060344
California: Ventura (FEMA Docket No.: B-7412) | City of Simi Valley | March 9, 2001, March 16, 2001, Ventura County Star | The Honorable Bill Davis, Mayor, City of Valley, 2929 Tapo Canyon Road, Simi Valley, California 93063 | February 20, 2001 | 060421
Colorado: Boulder (FEMA Docket No.: B-7412) | City of Longmont | January 18, 2001, January 25, 2001 Longmont Daily Times Call | The Honorable Leona Stoeker, Mayor, City of Longmont, 350 Kimbark Street, Longmont, Colorado 80501 | April 25, 2001 | 080027
Colorado: Boulder and Jefferson (FEMA Docket No.: B-7415) | City of Broomfield | May 30, 2001, June 6, 2001, Broomfield Enterprise | The Honorable William Berens, Mayor, City of Broomfield, One DesCombes Drive, Broomfield, Colorado 80020 | September 4, 2001 | 085073
Colorado: El Paso (FEMA Docket No.: B-7412) | Unincorporated areas | February 16, 2001, February 23, 2001, The Gazette | The Honorable Charles C. Brown, Chairman, El Paso County Board of Commissioners, 27 East Vermijo Avenue, Third Floor, Colorado Springs, Colorado 80903-2208 | May 24, 2001 | 080059
Colorado: Jefferson (FEMA Docket No.: B-7412) | City of Golden | January 31, 2001, February 7, 2001 Golden Transcript | The Honorable Jan C. Schenck, Mayor, City of Golden, 911 10th Street, Golden, Colorado 80401 | May 3, 2001 | 080090
Colorado: Jefferson (FEMA Docket No.: B-7412) | Unincorporated areas | February 1, 2001, February 8, 2001, High Timber Times | The Honorable Michelle Lawrence, Chairperson, Jefferson County Board of Commissioners, 100 Jefferson County Parkway, Suite 5550, Golden, Colorado 80419 | May 3, 2001 | 080087
Colorado: Jefferson (FEMA Docket No.: B-7412) | Unincorporated areas | February 22, 2001, March 1, 2001 High Timber Times | The Honorable Michelle Lawrence, Chairperson, Jefferson County Board of Commissioners, 100 Jefferson County Parkway, Suite 5550, Golden, Colorado 80419 | January 30, 2001 | 080087
Colorado: Jefferson (FEMA Docket No.: B-7412) | Unincorporated areas | March 1, 2001, March 8, 2001, High Timber Times | The Honorable Michelle Lawrence, Chairperson, Jefferson County Board of Commissioners, 100 Jefferson County Parkway, Suite 5550, Golden, Colorado 80419 | June 6, 2001 | 080087
Colorado: La Plata (FEMA Docket No.: B-7412) | Unincorporated areas | February 10, 2001, February 16, 2001, Durango Herald | The Honorable Bob Lieb, La Plata County Commissioner, District 2, 1060 East Second Avenue, Durango, Colorado 81301 | May 19, 2001 | 080097
Idaho: Twin Falls (FEMA Docket No.: B-7412) | City of Twin Falls | March 8, 2001, March 15, 2001, Twin Falls Times News | The Honorable Elaine Steel, Mayor, City of Twin Falls, P.O. Box 1907, Twin Falls, Idaho 83303-1907 | June 13, 2001 | 160120
Montana: Butte-Silver Bow County (FEMA Docket No.: B-7415) | Unincorporated areas | March 23, 2001, March 30, 2001, Montana Standard | The Honorable Judy Jacobsen, Chief Executive Officer, Butte-Silver Bow County Courthouse, Room 106, 155 West Granite Street, Butte, Montana 59701 | March 1, 2001 | 300077
Nevada: Clark (FEMA Docket No.: B-7415) | City of North Las Vegas | May 18, 2001, May 25, 2001, Las Vegas Review-Journal | The Honorable Michael L. Montandon, Mayor, City of North Las Vegas, P.O. Box 4086, North Las Vegas, Nevada 89030-4086 | April 27, 2001 | 320007
Nevada: Nye (FEMA Docket No.: B-7415) | Unincorporated areas | April 26, 2001, May 3, 2001, Tonopah Times | The Honorable Jeff Taguchi, Chairman, Nye County Board of Commissioners, P.O. Box 153, Tonopah, Nevada 89049 | April 5, 2001 | 320018
Oregon: Jackson (FEMA Docket No.: B-7412) | City of Central Point | February 22, 2001, March 1, 2001 Medford Mail Tribune | The Honorable Bill Walton, Mayor, City of Central Point, 155 South Second Street, Central Point, Oregon 97502 | July 24, 2001 | 410092
Texas: Angelina (FEMA Docket No.: B-7415) | City of Lufkin | March 30, 2001, April 6, 2001 Lufkin Daily News | The Honorable Louis A. Bronaugh, Mayor, City of Lufkin, 300 East Shepherd, Lufkin, Texas 75902 | June 28, 2001 | 480009
Texas: Collin FEMA Docket No.: B-7412) | City of Allen | February 21, 2001, February 28, 2001, Allen American | The Honorable Steve Terrell, Mayor, City of Allen, One Butler Circle, Allen, Texas 75013 | January 25, 2001 | 480131
Texas: Collin (FEMA Docket No.: B-7412) | City of Celina | February 7, 2001, February 14, 2001, Celina Record | The Honorable Mark Peterman, Mayor, City of Celina, 302 West Walnut, Celina, Texas 75009 | May 16, 2001 | 480133
Texas: Collin (FEMA Docket No.: B-7415) | City of Murphy | August 16, 2000, August 23, 2000 Wylie News | The Honorable Roy W. Bentle, Mayor, City of Murphy, 205 North Murphy Road, Murphy, Texas 75094 | July 25, 2000 | 480137
Texas: Collin (FEMA Docket No.: B-7412) | City of Plano | February 14, 2001, February 21, 2001 Plano Star Courier | The Honorable Jeran Akers, Mayor, City of Plano, P.O. Box 860358, Plano, Texas 75086-0358 | January 25, 2001, | 480140
Texas: Collin (FEMA Docket No.: B-7412) | Unincorporated areas | February 8, 2001, February 15, 2001, McKinney Daily Courier-Gazette | The Honorable Ron Harris, Collin County Judge, 210 South McDonald Street, McKinney, Texas 75069 | May 16, 2001 | 480130
Texas: Dallas (FEMA Docket No.: B-7412) | City of Coppell | February 16, 2001, February 23, 2001 Coppell Gazette | The Honorable Candy Sheehan, Mayor, City of Coppell, 255 Parkway Boulevard, Coppell, Texas 75019 | May 23, 2001 | 480170
Texas: Fort Bend (FEMA Docket No.: B-7419) | City of Missouri City (00-06-727) | April 19, 2001, April 26, 2001, Fort Bend Sun | The Honorable Allen Owen, Mayor, City of Missouri City, P.O. Box 666, Missouri City, Texas 77459 | March 23, 2001 | 480304
Texas: Fort Bend (FEMA Docket No.: B-7415) | City of Stafford | April 18, 2001, April 25, 2001 Fort Bend Star | The Honorable Leonard Scarcella, Mayor, City of Stafford, City Hall, 2610 South Main Street, Stafford, Texas 77477 | March 23, 2001 | 480233
Texas: Fort Bend (FEMA Docket No.: B-7419) | Unincorporated areas (00-06-727P) | April 19, 2001 April 26, 2001 Fort Bend Sun | The Honorable James Adolphus, Fort Bend County Judge, 301 Jackson Street, Suite 719, Richmond, Texas 77469 | March 23, 2001 | 480228
Texas: Johnson (FEMA Docket No.: B-7328) | Unincorporated areas | May 31, 2000, June 7, 2000, Cleburne Times Review | The Honorable Roger Harmon, Johnson County Judge, Johnson County Courthouse, Two North Main Street, Cleburne, Texas 76031 | September 5, 2000 | 480879
Texas: Travis (FEMA Docket No.: B-7412) | City of Austin | March 2, 2001, March 9, 2001, Austin American Statesman | The Honorable Kirk P. Watson, Mayor, City of Austin, Municipal Offices, P.O. Box 1088, Austin, Texas 78767-1088 | February 12, 2001 | 480624
Texas: Williamson (FEMA Docket No.: B-7412) | City of Leander | February 21, 2001, February 28, 2001 Hill Country News | The Honorable Larry Barnett, Mayor, City of Leander, P.O. Box 319, Leander, Texas 78646 | January 24, 2001 | 481536
Virginia: Rockingham (FEMA Docket No.: B-7415) | City of Harrisonburg | April 12, 2001, April 19, 2001 Daily News Record | The Honorable Carolyn W. Frank, Mayor, City of Harrisonburg, 374 South Carlton Street, Harrisonburg, Virginia 22801 | March 28, 2001 | 510076
Virginia: Rockingham (FEMA Docket No.: B-7415) | Unincorporated areas | April 12, 2001, April 19, 2001, Daily News Record | The Honorable Pablo Cuevas, Chairman, Rockingham County Board of Supervisors, 543 Elm Street, Broadway, Virginia 22815 | March 28, 2001 | 510133
Wyoming: Teton (FEMA Docket No.: B-7415) | Town of Jackson | October 25, 2000, November 1, 2000 Jackson Hole News | The Honorable Barney Oldfield, Mayor, Town of Jackson, P.O. Box 1687, Jackson, Wyoming 83001 | January 30, 2001 | 560052

(Catalog of Federal Domestic Assistance No. 83.100, “Flood Insurance”)
Dated: October 29, 2001.
Robert F. Shea,
Acting Administrator, Federal Insurance and Mitigation Administration.

[FR Doc. 01-28298 Filed 11-9-01; 8:45 am]

BILLING CODE 6718-04-P